DEPARTMENT OF THE INTERIOR

Bureau of Land Management

[LLNVS0100.L58530000.EQ0000.241A; N-93733; 12-08807; MO#4500122399; TAS:15X5232]

Notice of realty action: Classification for Lease and/or Conveyance for Recreation and Public Purposes of Public Lands (N-93733) for a Park in the Southwest Portion of the Las Vegas Valley, Clark County, Nevada

AGENCY: Bureau of Land Management, Interior.

ACTION: Notice of realty action.

SUMMARY: The Bureau of Land Management (BLM), Las Vegas Field Office, has examined and found suitable for classification for lease and subsequent conveyance under the provisions of the Recreation and Public Purposes Act (R&PP), as amended, approximately 10 acres of public land in the Las Vegas Valley, Clark County, Nevada. Clark County proposes to use the land for a 10-acre community park that will help the County meet future expanding recreation needs in the southwestern area of the Las Vegas Valley.

DATES: Submit written comments regarding this proposed classification on or before November 15, 2018.

ADDRESSES: Mail or hand deliver written comments to the BLM Las Vegas Field Office, 4701 N Torrey Pines Drive, Las Vegas, Nevada 89130, Attn: Acting Assistant Field Manager. The BLM will not consider comments received via telephone calls or email.

FOR FURTHER INFORMATION CONTACT: Marcus Amer at the above address, by telephone at 702-515-5021, or by email to mamer@blm.gov. Persons who use a telecommunications device for the deaf may call the Federal Relay Service (FRS) at 1-800-877-8339 to leave a message or question for the above individual. The FRS is available 24 hours a day, 7 days a week. You will receive a reply during normal business hours.

SUPPLEMENTARY INFORMATION: The parcel is located on West Pyle Avenue and Polaris Avenue in southwest Las Vegas and is legally described as:

Mount Diablo Meridian, Nevada

T. 22 S., R. 61 E.,

Sec. 29, SE¼SW¼NW¼.

The area described contains 10 acres in Clark County, Nevada.

Clark County has filed an R&PP application to develop the above-described land as a community park. The project will consist of picnic shelters, a children's play area, restrooms, pedestrian walkways, parking, and open-space play areas. Additional detailed information pertaining to this publication, plan of development, and site plan is located in case file N-93733, which is available for review at the BLM Las Vegas Field Office at the above address.

The land identified is not needed for any Federal purposes. The lease or conveyance of the lands for recreational or public purposes use is consistent with the BLM Las Vegas Resource Management Plan dated October 5, 1998, and would be in the public interest. Clark County has not applied for more than the 6,400-acre limitation for recreation uses in a year, nor more than 640 acres for each of the programs involving public resources other than recreation.

All interested parties will receive a copy of this Notice once it is published in the Federal Register. A copy of the Notice with information about this proposed realty action will be published in a newspaper of local circulation once a week for three consecutive weeks. The regulations at 43 CFR Subpart 2741 addressing requirements and procedures for conveyances under the R&PP Act do not require a public meeting.

The lease or conveyance of the land, when issued, will be subject to the following terms, conditions, and reservations:

1. A right-of-way thereon for ditches and canals constructed by the authority of the United States Act of August 30, 1890 (43 U.S.C. 945);

2. Provisions of the R&PP Act and to all applicable regulations of the Secretary of the Interior;

3. All mineral deposits in the land so patented, together with the right to prospect for, mine, and remove such deposits from the same under applicable law and regulations as established by the Secretary of the Interior may prescribe;

4. Lease or conveyance of the parcel is subject to valid existing rights.

Any lease and conveyance will also contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer.

Upon publication of this Notice in the Federal Register, the land described above will be segregated from all other forms of appropriation under the public land laws, including the general U.S. Mining Laws, except for lease and conveyance under the R&PP Act, leasing under the mineral leasing laws, and disposals under the mineral material disposal laws.

Interested parties may submit written comments on the suitability of the land for development of a public park in the City of Las Vegas. Comments on the classification are restricted to whether the land is physically suited for the proposal, whether the use will maximize the future use or uses of the land, whether the use is consistent with local planning and zoning, or if the use is consistent with state and Federal programs.

Interested parties may also submit comments regarding the specific use proposed in the application and plan of development and management and whether the BLM followed proper administrative procedures in reaching the decision to lease and convey under the R&PP Act.

Before including your address, phone number, email address, or other personally identifiable information in any comment, be aware that your entire comment including your personally identifiable information may be made publicly available at any time. While you can ask the BLM in your comment to withhold your personally identifiable information from public review, we cannot guarantee that we will be able to do so.

Only written comments submitted to the Field Manager, BLM Las Vegas Field Office, will be considered properly filed. Any adverse comments will be reviewed as protests by the BLM Nevada State Director, who may sustain, vacate, or modify this realty action.

In the absence of any adverse comments, the decision will become effective on November 30, 2018. The lands will not be available for lease and conveyance until after the decision becomes effective.

Authority: 43 CFR 2741.5.

Gayle Marrs-Smith,
Field Manager, Las Vegas Field Office.

[FR Doc. 2018-21304 Filed 9-28-18; 8:45 am]

BILLING CODE 4310-HC-P